DEPARTMENT OF ENERGY

Federal Energy Regulatory Commission

Combined Notice of Filings #1

Take notice that the Commission received the following Complaints and Compliance filings in EL Dockets:

Docket Numbers: EL25-78-000.

Applicants: PNGC Power.

Description: Pacific Northwest Generating Cooperative d/b/a/PNGC Power Inc. submits Application for Partial Waiver of PURPA Section 210 Obligations.

Filed Date: 5/2/25.

Accession Number: 20250502-5242.

Comment Date: 5 p.m. ET 5/23/25.

Take notice that the Commission received the following electric rate filings:

Docket Numbers: ER10-2881-040; ER10-2882-040; ER10-2883-038; ER10-2884-038; ER16-2509-009; ER17-2400-010; ER17-2401-010; ER17-2403-010; ER17-2404-010.

Applicants: SP Sandhills Solar, LLC, SP Pawpaw Solar, LLC, SP Decatur Parkway Solar, LLC, SP Butler Solar, LLC, Rutherford Farm, LLC, Georgia Power Company, Mississippi Power Company, Southern Power Company, Alabama Power Company.

Description: Third Supplement to 06/30/2023, Triennial Market Power Analysis for Southeast Region of Alabama Power Company, et al.

Filed Date: 5/5/25.

Accession Number: 20250505-5169.

Comment Date: 5 p.m. ET 5/27/25.

Docket Numbers: ER24-268-004.

Applicants: Florida Power & Light Company.

Description: Compliance filing: Settlement Agreement Compliance Filing to be effective 1/1/2024.

Filed Date: 5/7/25.

Accession Number: 20250507-5140.

Comment Date: 5 p.m. ET 5/28/25.

Docket Numbers: ER25-1319-002.

Applicants: Cadence Solar Energy LLC.

Description: Tariff Amendment: Second Supplement to Market-Based Rate Application to be effective 2/15/2025.

Filed Date: 5/7/25.

Accession Number: 20250507-5062.

Comment Date: 5 p.m. ET 5/28/25.

Docket Numbers: ER25-1321-001.

Applicants: Trade Post Solar LLC.

Description: Tariff Amendment: Second Supplement to Market-Based Rate Application to be effective 2/15/2025.

Filed Date: 5/7/25.

Accession Number: 20250507-5059.

Comment Date: 5 p.m. ET 5/28/25.

Docket Numbers: ER25-2162-000.

Applicants: Sayreville Power, LLC.

Description: Sayreville Power, LLC submits a one-time, limited waiver of PJM Interconnection, L.L.C. OATT to retain Capacity Interconnection Rights for its generating units.

Filed Date: 5/7/25.

Accession Number: 20250506-5166.

Comment Date: 5 p.m. ET 5/28/25.

Docket Numbers: ER25-2163-000.

Applicants: Hornshadow Solar, LLC.

Description: 205(d) Rate Filing: Revised Market-Based Rate Tariff Filing to be effective 7/7/2025.

Filed Date: 5/7/25.

Accession Number: 20250507-5035.

Comment Date: 5 p.m. ET 5/28/25.

Docket Numbers: ER25-2164-000.

Applicants: Hornshadow Solar 2, LLC.

Description: 205(d) Rate Filing: Revised Market-Based Rate Tariff Filing to be effective 7/7/2025.

Filed Date: 5/7/25.

Accession Number: 20250507-5036.

Comment Date: 5 p.m. ET 5/28/25.

Docket Numbers: ER25-2165-000.

Applicants: Midcontinent Independent System Operator, Inc., Otter Tail Power Company.

Description: 205(d) Rate Filing: Otter Tail Power Company submits tariff filing per 35.13(a)(2)(iii: 2025-05-07_OTP Request for Approval of Depreciation Rates to be effective 1/1/2025.

Filed Date: 5/7/25.

Accession Number: 20250507-5039.

Comment Date: 5 p.m. ET 5/28/25.

Docket Numbers: ER25-2166-000.

Applicants: Consolidated Edison Company of New York, Inc., New York Independent System Operator, Inc.

Description: 205(d) Rate Filing: New York Independent System Operator, Inc. submits tariff filing per 35.13(a)(2)(iii: NYISO-Con Edison Joint 205: LGIA Astoria Energy Storage Prjct SA2895 (CEII) to be effective 4/23/2025.

Filed Date: 5/7/25.

Accession Number: 20250507-5050.

Comment Date: 5 p.m. ET 5/28/25.

Docket Numbers: ER25-2167-000.

Applicants: Pixley Solar Energy LLC.

Description: Tariff Amendment: MBR Tariff Cancellation to be effective 12/31/9998.

Filed Date: 5/7/25.

Accession Number: 20250507-5052.

Comment Date: 5 p.m. ET 5/28/25.

Docket Numbers: ER25-2168-000.

Applicants: Atlas VII, LLC.

Description: Initial Rate Filing: Baseline new to be effective 5/8/2025.

Filed Date: 5/7/25.

Accession Number: 20250507-5085.

Comment Date: 5 p.m. ET 5/28/25.

Docket Numbers: ER25-2169-000.

Applicants: Atlas IX, LLC.

Description: Initial Rate Filing: Baseline new to be effective 5/8/2025.

Filed Date: 5/7/25.

Accession Number: 20250507-5089.

Comment Date: 5 p.m. ET 5/28/25.

Docket Numbers: ER25-2170-000.

Applicants: PJM Interconnection, L.L.C.

Description: 205(d) Rate Filing: Original GIA, Service Agreement No. 7670; AF2-303-(AG1-000A) to be effective 4/7/2025.

Filed Date: 5/7/25.

Accession Number: 20250507-5110.

Comment Date: 5 p.m. ET 5/28/25.

Docket Numbers: ER25-2171-000.

Applicants: Cheyenne Light, Fuel and Power Company.

Description: 205(d) Rate Filing: Revisions to Transmission Formula Rate Template to be effective 8/1/2025.

Filed Date: 5/7/25.

Accession Number: 20250507-5114.

Comment Date: 5 p.m. ET 5/28/25.

Docket Numbers: ER25-2172-000.

Applicants: PJM Interconnection, L.L.C.

Description: 205(d) Rate Filing: Amendment to SA Nos. 4904 & 4952; Queue Position No. AA2-119/AC1-055/AD2-192 to be effective 7/7/2025.

Filed Date: 5/7/25.

Accession Number: 20250507-5120.

Comment Date: 5 p.m. ET 5/28/25.

Docket Numbers: ER25-2173-000.

Applicants: PJM Interconnection, L.L.C.

Description: 205(d) Rate Filing: Original GIA, Service Agreement No. 7650; AF2-304 (AG1-000B) to be effective 4/7/2025.

Filed Date: 5/7/25.

Accession Number: 20250507-5121.

Comment Date: 5 p.m. ET 5/28/25.

Docket Numbers: ER25-2174-000.

Applicants: PJM Interconnection, L.L.C.

Description: 205(d) Rate Filing: Original GIA and CSA, SA Nos. 7656 and 7657; Project Identifier No. AF2-359 to be effective 4/7/2025.

Filed Date: 5/7/25.

Accession Number: 20250507-5123.

Comment Date: 5 p.m. ET 5/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 7, 2025.
Carlos D. Clay,
Deputy Secretary.

[FR Doc. 2025-08354 Filed 5-12-25; 8:45 am]

BILLING CODE 6717-01-P